DEPARTMENT OF LABOR

Pension and Welfare Benefits Administration

120th Full Meeting of the Advisory Council on Employee Welfare and Pension Benefits Plans; Notice of Meeting

Pursuant to the authority contained in section 512 of the Employee Retirement Income Security Act of 1974 (ERISA), 29 U.S.C. 1142, the 120th open meeting of the full Advisory Council on Employee Welfare and Pension Benefit Plans will be held Friday, November 8, 2002, in the Secretary of Labor's Conference Room S-2508, U.S. Department of Labor Building, 200 Constitution Avenue, NW., Washington, DC 20210.

The purpose of the meeting, which will begin at 10 a.m. and end at approximately noon, is for the Council's three Working Group chairs to present their groups' final reports and recommendations for approval by the full Council before the reports are forwarded to the Secretary of Labor. Also at the meeting, the five departing members will be cited for the completion of their three-year terms of service.

Members of the public are encouraged to file a written statement pertaining to the three Working Group issue assignments—fiduciary training and education, orphan plans, and electronic reporting—by submitting 20 copies on or before October 30, 2002 to Sharon Morrissey, Executive Secretary, ERISA Advisory Council, U.S. Department of Labor, Suite N-5677, 200 Constitution Avenue, NW., Washington, DC 20210.

Individuals or representatives of organizations wishing to address the Advisory Council should forward their requests to the Executive Secretary or telephone (202) 693-8668. Oral presentations will be limited to ten minutes, but an extended statement may be submitted for the record. Individuals with disabilities who need special accommodations should contact Sharon Morrissey by October 30 at the address indicated.

Organizations or individuals may also submit statements for the record without testifying. Twenty (20) copies of such statements should be sent to the Executive Secretary of the Advisory Council at the above address. Written statements will be accepted and included in the record of the meeting if received on or before October 30, 2002.

Signed at Washington, DC, this 18th day of October, 2002.
Ann L. Combs,
Assistant Secretary, Pension and Welfare Benefits Administration.

[FR Doc. 02-27101 Filed 10-23-02; 8:45 am]

BILLING CODE 4510-29-M